DEPARTMENT OF HOMELAND SECURITY

Coast Guard

33 CFR Part 117

[CGD08-03-046]

Drawbridge Operation Regulations; Buffalo Bayou, Houston, TX

AGENCY: Coast Guard, DHS.

ACTION: Notice of temporary deviation from regulations.

SUMMARY: The Commander, Eighth Coast Guard District, has issued a temporary deviation from the regulation governing the operation of the Union Pacific Railroad Swing Span Bridge across Buffalo Bayou, mile 0.1, at Houston, Harris County, Texas. This deviation allows the bridge to remain closed to navigation from December 10, 2003, through December 21, 2003. The deviation is necessary to allow for replacement of the diesel motor that operates the bridge.

DATES: This deviation is effective from 6 a.m. on December 10, 2003, through 6 p.m. on December 21, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Union Pacific Railroad has requested a temporary deviation in order to replace a motor on the swing span bridge across Buffalo Bayou at mile 0.1 at Houston, Harris County, Texas. This maintenance is essential for the continued safe operation of the bridge. This temporary deviation will allow the bridge to remain in the closed-to-navigation position from 6 a.m. on Wednesday, December 10, 2003, until 6 p.m. on Sunday, December 21, 2003. The bridge will not be able to open for emergencies during this time and no alternate routes are available. The vertical clearance of the bridge in the closed-to-navigation position is approximately 34 feet above mean low water, elevation 0.0.

Requests to open the bridge are infrequent with the most recent request on April 14, 2003. Waterway users consist mainly of small tows. Based upon coordination with waterway users and Vessel Traffic Service Houston/Galveston, it has been determined that this closure will not have a significant effect on these vessels.

In accordance with 33 CFR 117.35(c), this work will be performed with all due speed in order to return the bridge to normal operation as soon as possible. This deviation from the operating regulations is authorized under 33 CFR 117.35.

Dated: November 18, 2003.
Marcus Redford,
Bridge Administrator.

[FR Doc. 03-29593 Filed 11-25-03; 8:45 am]

BILLING CODE 4910-15-P